POSTAL SERVICE

39 CFR Part 111

Revised Standards for Mailing Adult Fowl

AGENCY: Postal Service.

ACTION: Proposed rule.

SUMMARY: The Postal Service proposes new requirements for containers used for mailing adult chickens. Currently, we require all mailable adult fowl other than chickens to be mailed in containers approved by the manager of Mailing Standards. With this proposal, we intend to require adult chickens to be mailed in approved containers also.

DATES: We must receive your comments on or before March 19, 2007.

ADDRESSES: Mail or deliver written comments to the Manager, Mailing Standards, U.S. Postal Service, 475 L'Enfant Plaza SW., Room 3436, Washington, DC 20260-3436. You may inspect and photocopy all written comments at Postal Service Headquarters Library, 475 L'Enfant Plaza SW., 11th Floor N, Washington, DC between 9 a.m. and 4 p.m., Monday through Friday.

FOR FURTHER INFORMATION CONTACT: Bert Olsen, 202-268-7276.

SUPPLEMENTARY INFORMATION: To promote the safety of Postal Service employees, customers, and all mailed adult fowl, we propose to revise our requirements for containers used for mailing adult chickens. Current mailing standards permit adult chickens to be mailed in containers that pass basic package performance tests. By contrast, other adult fowl (such as turkeys, guinea fowl, doves, pigeons, pheasants, partridges, and quail) must be mailed in containers approved by the manager of Mailing Standards. The container standards for other adult fowl are more stringent than the standards for adult chickens. Because there is no compelling reason to treat adult chickens differently from other adult fowl, the revised standards will require adult chickens to be mailed in the same containers approved by Mailing Standards for use with other adult fowl.

Vendors who wish to submit a container for USPS approval can contact the office of Mailing Standards for a list of container criteria. Additionally, the term “biologically secure” has been replaced by the word “secure” to eliminate any implication that such packaging will completely prevent the spread of disease during handling.

Although we are exempt from the notice and comment requirements of the Administrative Procedure Act [5 U.S.C. of 553(b), (c)] regarding proposed rulemaking by 39 U.S.C. 410(a), we invite public comment on the following proposed revisions to Mailing Standards of the United States Postal Service, Domestic Mail Manual (DMM), incorporated by reference in the Code of Federal Regulations. See 39 CFR 111.1.

List of Subjects in 39 CFR Part 111

Administrative practice and procedure, Postal Service.

Accordingly, 39 CFR part 111 is proposed to be amended as follows:

PART 111—[AMENDED]

1. The authority citation for 39 CFR Part 111 continues to read as follows:

Authority: 5 U.S.C. 552(a); 39 U.S.C. 101, 401, 403, 404, 414, 416, 3001-3011, 3201-3219, 3403-3406, 3621, 3626, 5001.

2. Revise the following sections of Mailing Standards of the United States Postal Service, Domestic Mail Manual (DMM), as follows:

600 Basic Standards for All Mailing Services

601 Mailability

* * * * *

9.0 Perishables

* * * * *

9.3 Live Animals

* * * * *

9.3.4 Adult Fowl

[Revise 9.3.4 as follows:]

Disease-free adult fowl are mailable domestically when shipped under applicable law in accordance with 601.1.7. Adult chickens, turkeys, guinea fowl, doves, pigeons, pheasants, partridges, and quail as well as ducks, geese, and swans are mailable as follows:

a. The mailer must send adult fowl by Express Mail in secure containers approved by the manager of Mailing Standards (see 608.8.0 for address).

b. The number of birds per parcel must follow the container manufacturer limits and each bird must weigh more than 6 ounces.

c. Indemnity may be paid only for loss, damage, or rifling, and not for death of the birds in transit if there is no visible damage to the mailing container.

[Delete 9.3.5, Adult Chickens, and renumber 9.3.6 through 9.3.13 as new 9.3.5 through 9.3.12.]

* * * * *

We will publish an appropriate amendment to 39 CFR Part 111 to reflect these changes if our proposal is adopted.

Neva R. Watson,
Attorney, Legislative.

[FR Doc. E7-2817 Filed 2-15-07; 8:45 am]

BILLING CODE 7710-12-P